DEPARTMENT OF HEALTH AND HUMAN SERVICES

Administration for Children and Families

Statement of Organization, Functions, and Delegations of Authority

Notice is hereby given that under the authority vested in the Assistant Secretary for Children and Families by the memorandum dated November 14, 1991, from the Assistant Secretary for Management and Budget, I hereby delegate to the Director, Office of Planning, Research and Evaluation, the following authorities: ¹

¹ The November 14, 1991 delegation of authority, entitled “Redelegation of Clearance Functions Under the Paperwork Reduction Act of 1980, Public Law 96-511, as amended,” remains in effect. The Paperwork Reduction Act of 1995, Public Law 104-13, as amended by Public Law 105-106, Div E, Title LI, Subtitle C, section 5125(a), assigned Paperwork Reduction Act responsibilities to the Chief Information Officer (CIO). 44 U.S.C. 3506(a)(2)(A). On March 1, 1996, the Secretary by delegation designated the Assistant Secretary for Management and Budget as the CIO, and redelegated authorities pertaining to the Paperwork Reduction Act to the CIO. Such authorities remain with the CIO. Neither the Secretary nor the CIO has rescinded the November 14, 1991 redelegation of Paperwork Reduction Act authorities to the Assistant Secretary for Children and Families, thus the November 14, 1991 redelegation remains in effect.

(a) Authorities Delegated.

1. Authority for the preparation and processing of clearances for collections of information, as well as assuring compliance with related policies, standards, procedures and instructions emanating from the OMB, and the Office of the Secretary, Assistant Secretary for Administration, Office of the Chief Information Officer.

2. Authority to review and approve Class C (routine) Collections of Information from the public prior to the submission of these requests to OMB, except where expedited review by OMB is required.

3. Authority to approve, for publication in the Federal Register, of notices of ACF's information collection requests submitted to OMB for clearance.

4. Authority to manage ACF's burden reduction program within the ceiling issued by the Department.

5. Authority to manage all other related paperwork reduction staff work, such as direct communication with OMB on routine reports clearance issues.

(b) Limitations.

1. National Performance Review suggestions to reduce OMB clearance will be taken into consideration.

2. These authorities may be redelegated (1) to officials who are outside the program operation chain but are not below the grade (or equivalent) of deputy assistant secretary, or (2) with the prior approval of the Chief Information Officer to other employees.

3. This delegation of authority shall be exercised under the Department's existing policies on delegations and regulations.

(c) Effect on Existing Delegations.

This delegation supersedes any previous delegation of authority pertaining to authorities delegated herein.

(d) Effective Date.

This delegation is effective on the date of signature.

I hereby affirm and ratify any actions taken by the Director, Office of Planning, Research and Evaluation, which involved the exercise of this authority prior to the effective date of this delegation.

Dated: July 14, 2010.
Carmen R. Nazario,
Assistant Secretary for Children and Families.

[FR Doc. 2010-17942 Filed 7-21-10; 8:45 am]

BILLING CODE 4184-01-P